NUCLEAR REGULATORY COMMISSION

[NRC-2012-0064]

Initial Test Program of Condensate and Feedwater Systems for Light-Water Reactors

AGENCY: Nuclear Regulatory Commission.

ACTION: Regulatory guide; issuance.

SUMMARY: The U.S. Nuclear Regulatory Commission (NRC or the Commission) is issuing Revision 2 to Regulatory Guide (RG) 1.68.1, “Preoperational and Initial Startup Testing of Feedwater and Condensate Systems for Boiling Water Reactor Power Plants.” This regulatory guide is being revised to: (1) Expand the scope of the guide to encompass preoperational, initial plant startup, and power ascension tests for the condensate and feedwater systems in all types of light water reactor facilities; and (2) to incorporate lessons learned by the NRC staff since the last revision.

ADDRESSES: Please refer to Docket ID NRC-2012-0064 when contacting the NRC about the availability of information regarding this document. You may access information related to this document, which the NRC possesses and are publicly available, using any of the following methods:

• Federal Rulemaking Web Site: Go to http://www.regulations.gov and search for Docket ID NRC-2012-064. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of Regulatory Guide 1.68.1 is available under ADAMS Accession No. ML12160A169. The regulatory analysis may be found under ADAMS Accession No. ML12160A170.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Kurt Cozens, Office of Nuclear Regulatory Research, U.S. Nuclear Regulatory Commission, Washington, DC 20555-0001, telephone: 301-251-7448; email: Kurt.Cozens@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 2 of RG1.68.1 was issued with a temporary identification as Draft Regulatory Guide, DG-1265. This guide describes the methods that the NRC staff considers acceptable to implement multiple criteria in Appendix A, “General Design Criteria for Nuclear Power Plants,” to Part 50 of Title 10 of the Code of Federal Regulations (10 CFR), “Domestic Licensing of Production and Utilization Facilities, of 10 CFR Part 50,” regarding the initial test program (ITP) for condensate and feedwater (FW) systems, including condensate storage and supply, for light-water reactors (LWRs) and for startup feedwater (SFW), auxiliary feedwater (AFW) or emergency feedwater (EFW) systems for pressurized-water reactors (PWRs). This guide also describes methods that the NRC staff finds acceptable for testing condensate, FW, SFW/AFW/EFW (PWR only) structures, systems, and components (SSCs) in accordance with Subpart B, “Standard Design Certifications,” and Subpart C, “Combined Licenses,” of 10 CFR Part 52, “Licenses, Certifications, and Approvals for Nuclear Power Plants.”

II. Further Information

DG-1265, was published in the Federal Register on March 16, 2012 (77 FR 15812), for a 60-day public comment period. The public comment period closed on May 18, 2012. No public comments on DG-1265 were received; therefore no content changes were made during its conversion to a regulatory guide.

III. Backfitting and Issue Finality

Issuance of this final regulatory guide does not constitute backfitting as defined in 10 CFR 50.109 (the Backfit Rule) and is not otherwise inconsistent with the issue finality provisions in 10 CFR Part 52. As discussed in the “Implementation” section of this regulatory guide, the NRC has no current intention to impose this regulatory guide on holders of current operating licenses or combined licenses.

This regulatory guide may be applied to applications for operating licenses and combined licenses docketed by the NRC as of the date of issuance of the final regulatory guide, as well as future applications for operating licenses and combined licenses submitted after the issuance of the regulatory guide. Such action does not constitute backfitting as defined in 10 CRF 50.109(a)(1) or is otherwise inconsistent with the applicable issue finality provision in 10 CFR Part 52, inasmuch as such applicants or potential applicants are not within the scope of entities protected by the Backfit Rule or the relevant issue finality provisions in Part 52.

Dated at Rockville, Maryland, this 30th day of August, 2012.
For the Nuclear Regulatory Commission.
Thomas H. Boyce,
Chief, Regulatory Guide Development Branch, Division of Engineering, Office of Nuclear Regulatory Research.

[FR Doc. 2012-22310 Filed 9-10-12; 8:45 am]

BILLING CODE 7590-01-P